POSTAL SERVICE

39 CFR Part 20

International Mail: Proposed Changes in Prices and Fees

AGENCY: Postal Service.™

ACTION: Proposed rule.

SUMMARY: In July 2010, the Postal Service filed a notice of mailing services price adjustments with the Postal Regulatory Commission, effective in January 2011. This proposed rule provides the mailing standards that would accompany new prices in 2011.

DATES: We must receive your comments on or before August 9, 2010.

ADDRESSES: Mail or deliver comments to the Manager, Mailing Standards, U.S. Postal Service®, 475 L'Enfant Plaza, SW., RM 3436, Washington, DC 20260-3436. You may inspect and photocopy all written comments between 9 a.m. and 4 p.m., Monday through Friday, at USPS® Headquarters Library, 11th Floor North, 475 L'Enfant Plaza, SW., Washington, DC. E-mail comments, containing the name and address of the commenter, may be sent to: MailingStandards@usps.gov, with a subject line of “International January 2011 Price Change.” Faxed comments are not accepted.

FOR FURTHER INFORMATION CONTACT: Obataiye B. Akinwole at 703-292-5260.

SUPPLEMENTARY INFORMATION: The Postal Service is proposing to change international postage prices and fees in January 2011. Proposed prices are, or will be available, under Docket Number(s) R2010-XX on the Postal Regulatory Commission's Web site, http://www.prc.gov.

This proposed rule includes price changes and several minor classification changes for First-Class Mail International®, and extra services. We also plan to realign Israel's First-Class Mail International price groups.

This proposed rule contains the revisions to Mailing Standards of the United States Postal Service, International Mail Manual (IMM®) that we would adopt to implement the new prices.

First-Class Mail International

Our proposal would increase prices for First-Class Mail International approximately 6.7 percent.

Postcards

The proposed price structure for postcards includes two separate price categories; Canada and Mexico, and all other countries. Canada and Mexico, previously priced individually, now share the same price group. The price for postcards increases by approximately 2.8 percent.

International Extra Services

Our proposal increases prices for extra services by approximately 11.8 percent. The prices for the following First-Class Mail International extra services are proposed to change for:

• Certificate of Mailing

• Customs Clearance and Delivery Fee

• International Reply Coupons

• International Business Reply Service

• Registered Mail™

• Return Receipt

• Restricted Delivery

Israel

To align operational efficiencies more closely with costs, we propose moving Israel from Price Group 8 to Price Group 5 for First-Class Mail International service only.

The prices and fees proposed in this notice, if adopted, would become effective in January 2011.

Although exempt from the notice and comment requirements of the Administrative Procedure Act [5 U.S.C. 553(b), (c)] regarding proposed rulemaking by 39 U.S.C. 410(a), the Postal Service invites public comment on the following proposed revisions to the Mailing Standards of the United States Postal Service, International Mail Manual (IMM), incorporated by reference in the Code of Federal Regulations. See 39 CFR Part 20.1.

List of Subjects in 39 CFR Part 20

Foreign relations, International postal services.

Accordingly, 39 CFR part 20 is proposed to be amended as follows:

PART 20—[AMENDED]

1. The authority citation for 39 CFR Part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of the Mailing Standards of the United States Postal Service, International Mail Manual (IMM) as follows:

* * * * *

Mailing Standards of the United States Postal Service, International Mail Manual (IMM)

* * * * *

2 Conditions for Mailing

* * * * *

240 First-Class Mail International

241 Description and Physical Characteristics

* * * * *

241.2 Physical Characteristics

241.21 Physical Standards—Letters

* * * * *

241.217 Nonmachinable Surcharge

[Revise the first sentence of 241.217 by changing the fee to $0.21.]

243 Prices and Postage Payment Methods

243.1 Prices

* * * * *

243.13 Destinating Countries and Price Groups

* * * * *

Exhibit 243.13

First-Class Mail International Price Groups

[Revise Exhibit 243.13 by changing the Price Group for Israel to Price Group 5:]

Country | Price group
| * * * * *
Israel | 5

* * * * *

3 Extra Services

310 Certificate of Mailing

* * * * *

313 Fees

313.1 Individual Pieces

[Revise 313.1 by changing the fees as follows:]

The fee for certificates of mailing for ordinary First-Class Mail International items and ordinary Priority Mail International parcels is $1.20 for pieces listed individually on PS Form 3817, Certificate of Mailing. The fee for three or more pieces individually listed on PS Form 3877, Firm Mailing Book, or an approved customer-provided manifest is $0.44 per piece. Each additional copy of PS Form 3817 or firm mailing bills is available for $1.20.

313.2 Bulk Pieces

[Revise the table in 313.2 by changing the fees as follows:]

* * * * *

Up to 1,000 pieces | $6.80
Each additional 1,000 pieces or fraction | 0.79
Duplicate copy | 1.20

* * * * *

330 Registered Mail

* * * * *

333 Fees and Indemnity Limits

333.1 Registration Fees

[Revise 333.1 by changing the fee to $12.95.]

* * * * *

340 Return Receipt

* * * * *

343 Fee

[Revise the first sentence of 343 by changing the fee to $2.40.]

* * * * *

350 Restricted Delivery

* * * * *

353 Fee

[Revise 353 by changing the fee to $4.75.]

* * * * *

380 Supplemental Services

381 International Reply Coupons

* * * * *

381.3 Selling Price and Exchange Value

[Revise the first sentence of 381.3a to change the price to $2.20.]

* * * * *

382 International Business Reply Service

* * * * *

382.4 Fees

The fees for IBRS are as follows:

[Revise items 382.4a and b to change prices as follows:]

a. Envelopes up to 2 ounces: $1.50.

b. Cards: $1.00.

* * * * *

7 Treatment of Inbound Mail

710 U.S. Customs Information

* * * * *

712 Customs Clearance and Delivery Fee

* * * * *

712.3 Amount of Postal Service Fee

[Revise item 712.3 to change the fee to $5.60.]

* * * * *

Country Price Groups and Weight Limits

* * * * *

[Revise the country listing for Israel by changing the Price Group for First-Class Mail International as follows:]

Country | Global Express Guaranteed: Price group | Global Express Guaranteed: Max. wt. (lbs.) | Express Mail International: Price group | Express Mail International: Max. wt. (lbs.) | Priority Mail International ¹: Price group | Priority Mail International ¹: Max. wt. (lbs.) | First-Class Mail International: Price group | First-Class Mail International: Max. wt.² (ozs./lbs.)
| * * * * * * *
Israel | 6 | 70 | 8 | 44 | 8 | 44 | 5 | 3.5/4
| * * * * * * *

* * * * *

Individual Country Listings

* * * * *

Country Conditions for Mailing

* * * * *

First Class Mail International (240)

* * * * *

Postcards (241.22)

[For each country, with the exception of Canada and Mexico, for which postcards are available, change the fee to $1.00. For Canada and Mexico change the fee to $0.80.]

* * * * *

We will publish an appropriate amendment to 39 CFR part 20 to reflect these changes if our proposal is adopted.

Stanley F. Mires,
Chief Counsel, Legislative.

[FR Doc. 2010-16799 Filed 7-7-10; 8:45 am]

BILLING CODE 7710-12-P